DEPARTMENT OF THE INTERIOR

Fish and Wildlife Service

[FWS-R1-ES-2019-N071; FXES11130100000-190-FF01E00000]

Endangered and Threatened Wildlife and Plants; Draft Kauai Islandwide Recovery Plan

AGENCY: Fish and Wildlife Service, Interior.

ACTION: Notice of document availability for review and public comment.

SUMMARY: We, the U.S. Fish and Wildlife Service, announce the availability of the Draft Kauai Islandwide Recovery Plan under the Endangered Species Act. This draft recovery plan addresses 175 listed species occurring on the island of Kauai, Hawaii, 111 of which are endemic to Kauai. The draft recovery plan includes specific goals, objectives, and criteria that should be met to remove the Kauai endemic species from the Federal List of Endangered and Threatened Wildlife and Plants. For the listed species that occur on multiple Hawaiian islands, the draft recovery plan describes those actions specific to Kauai; complete recovery actions and recovery criteria for these species will be covered in a subsequent multi-island recovery plan. We request review and comment on this draft recovery plan from local, State, and Federal agencies and the public. We will also accept any new information on the species' status throughout their range.

DATES: In order to be considered, comments on the draft recovery plan must be received on or before July 29, 2020. However, we will accept information about any species at any time.

ADDRESSES: An electronic copy of the draft recovery plan is available at our website at http://www.fws.gov/endangered/species/recovery-plans.html and http://www.fws.gov/pacific/ecoservices/endangered/recovery/plans.html. If you wish to comment on the plan, you may submit your comments in writing by any one of the following methods:

(1) You may submit written comments and materials to Field Supervisor, Pacific Islands Fish and Wildlife Office, U.S. Fish and Wildlife Service, 300 Ala Moana Boulevard, Room 3122, Honolulu, HI 96850.

(2) You may submit written comments to our Pacific Islands Fish and Wildlife Office by fax at (808)792-9581.

(3) You may send comments by email to gregory_koob@fws.gov.

For additional information about submitting comments, see the “Request for Public Comments” section below.

FOR FURTHER INFORMATION CONTACT: Gregory Koob, Deputy Field Supervisor, by mail at the above Honolulu address, or by telephone at (808)792-9400. Individuals who are hearing impaired may call the Federal Relay Service at 800-877-8339 for TTY assistance.

SUPPLEMENTARY INFORMATION: We, the U.S. Fish and Wildlife Service, announce the availability of the Draft Kauai Islandwide Recovery Plan under the Endangered Species Act (Act; 16 U.S.C. 1531 et seq.). This draft recovery plan addresses 175 listed species occurring on the island of Kauai, Hawaii, 111 of which are endemic to Kauai. The draft recovery plan includes specific goals, objectives, and criteria that should be met to remove the Kauai endemic species from the Federal List of Endangered and Threatened Wildlife and Plants. For the listed species that occur on multiple Hawaiian islands, the draft recovery plan describes those actions specific to Kauai; complete recovery actions and recovery criteria for these species will be covered in a subsequent multi-island recovery plan. We request review and comment on this draft recovery plan from local, State, and Federal agencies and the public. We will also accept any new information on any species' status throughout its range.

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species Addressed in Recovery Plan

This draft recovery plan addresses 175 species, as listed in the table below. Many of these species have been addressed previously in earlier recovery plans; this plan will update and supersede the Kauai-specific actions in those documents, and is intended to provide a single unified reference for the recovery of all listed species on Kauai.

Scientific name | Common name | Listing status | Kauai endemic | Most recent recovery plan
PLANTS
Acaena exigua | Liliwai | Endangered | No | D
Achyranthes mutica | No common name | Endangered | No | A
Adenophorus periens | Fern, pendant kihi | Endangered | No | A
Alectryon macrococcus | Mahoe | Endangered | No | D
Asplenium dielerectum | Diellia, asplenium-leaved | Endangered | No | A
Asplenium dielmannii [=Diellia mannii] | No common name | Endangered | Yes | ——
Asplenium dielpallidum [=Diellia pallida] | No common name | Endangered | Yes | E
Astelia waialealae | Painiu | Endangered | Yes | ——
Bonamia menziesii | No common name | Endangered | No | A
Brighamia insignis | Olulu | Endangered | No | E
Canavalia napaliensis | Awikiwiki | Endangered | Yes | ——
Canavalia pubescens | Awikiwiki | Endangered | No | ——
Charpentiera densiflora | Papala | Endangered | Yes | ——
Ctenitis squamigera | Pauoa | Endangered | No | C
Cyanea asarifolia | Haha | Endangered | Yes | E
Cyanea dolichopoda | Haha | Endangered | Yes | ——
Cyanea eleeleensis | Haha | Endangered | Yes | ——
Cyanea kolekoleensis | Haha | Endangered | Yes | ——
Cyanea kuhihewa | Haiwale | Endangered | Yes | ——
Cyanea recta | Haha | Threatened | Yes | F
Cyanea remyi | Haha | Endangered | Yes | F
Cyanea undulata | No common name | Endangered | Yes | G
Cyperus pennatiformis | No common name | Endangered | No | A
Cyperus trachysanthos | Puukaa | Endangered | No | A
Cyrtandra cyaneoides | Mapele | Endangered | Yes | F
Cyrtandra limahuliensis | Haiwale | Threatened | Yes | E
Cyrtandra oenobarba | Haiwale | Endangered | Yes | ——
Cyrtandra paliku | Haiwale | Endangered | Yes | ——
Delissea rhytidosperma | No common name | Endangered | No | E
Delissea rivularis | Oha | Endangered | Yes | F
Diplazium molokaiense | No common name | Endangered | No | C
Doryopteris angelica | No common name | Endangered | Yes | ——
Dryopteris crinalis var. podosorus | Palapalai aumakua | Endangered | Yes | ——
Dubautia imbricata subsp. imbricata | Naenae | Endangered | Yes | ——
Dubautia kalalauensis | Naenae | Endangered | Yes | ——
Dubautia kenwoodii | Naenae | Endangered | Yes | ——
Dubautia latifolia | Koholapehu | Endangered | Yes | E
Dubautia pauciflorula | Naenae | Endangered | Yes | G
Dubautia plantaginea subsp. magnifolia | Naenae | Endangered | Yes | ——
Dubautia waialealae | Naenae | Endangered | Yes | ——
Euphorbia eleanoriae [=Chamaesyce eleanoriae] | Akoko | Endangered | Yes | ——
Euphorbia haeleeleana | Akoko | Endangered | No | A
Euphorbia halemanui [=Chamaesyce halemanui] | Akoko | Endangered | Yes | E
Euphorbia remyi var. kauaiensis [=Chamaesyce remyi var. kauaiensis] | Akoko | Endangered | Yes | ——
Euphorbia remyi var. remyi [=Chamaesyce remyi var. remyii | Akoko | Endangered | Yes | ——
Exocarpos luteolus | Heau | Endangered | Yes | E
Flueggea neowawraea | Mehamehame | Endangered | No | A
Gardenia remyi | Nanu | Endangered | No | ——
Geranium kauaiense | Nohoanu | Endangered | Yes | ——
Gouania meyenii | No common name | Endangered | No | H
Haplostachys haplostachya | No common name | Endangered | No | I
Hesperomannia lydgatei | No common name | Endangered | Yes | G
Hibiscadelphus distans | Kauai hau kuahiwi | Endangered | Yes | J
Hibiscadelphus woodii | Hau kuahiwi | Endangered | Yes | F
Hibiscus brackenridgei | Mao hau hele, (=native yellow hibiscus) | Endangered | No | A
Hibiscus clayi | Clay's hibiscus | Endangered | Yes | E
Hibiscus waimeae subsp. hannerae | Kokio keokeo | Endangered | Yes | F
Huperzia mannii | Wawaeiole | Endangered | No | D
Huperzia nutans | Wawaeiole | Endangered | No | H
Ischaemum byrone | Hilo ischaemum | Endangered | No | K
Isodendrion laurifolium | Aupaka | Endangered | No | A
Isodendrion longifolium | Aupaka | Threatened | No | A
Joinvillea ascendens subsp. ascendens | Ohe | Endangered | No | ——
Kadua cookiana [=Hedyotis cookiana] | Awiwi | Endangered | No | E
Kadua fluviatilis [=Hedyotis fluviatilis] | Kamapuaa | Endangered | No | ——
Kadua st.-johnii [=Hedyotis st.-johnii] | No common name | Endangered | Yes | E
Kanaloa kahoolawensis | Kohe malama malama o kanaloa | Endangered | No | B
Keysseria erici | No common name | Endangered | Yes | ——
Keysseria helenae | No common name | Endangered | Yes | ——
Kokia kauaiensis | Kokio | Endangered | Yes | F
Labordia helleri | Kamakahala | Endangered | Yes | ——
Labordia lydgatei | Kamakahala | Endangered | Yes | G
Labordia pumila | Kamakahala | Endangered | Yes | ——
Labordia tinifolia var. wahiawaensis | Kamakahala | Endangered | Yes | F
Lipochaeta fauriei [=Melanthera fauriei] | Nehe | Endangered | Yes | E
Lipochaeta micrantha [=Melanthera micrantha] | Nehe | Endangered | Yes | E
Lipochaeta waimeaensis [=Melanthera waimeaensis] | Nehe | Endangered | Yes | E
Lobelia niihauensis | No common name | Endangered | No | H
Lysimachia daphnoides | Lehua makanoe | Endangered | Yes | ——
Lysimachia iniki | No common name | Endangered | Yes | ——
Lysimachia pendens | No common name | Endangered | Yes | ——
Lysimachia scopulensis | No common name | Endangered | Yes | ——
Lysimachia venosa | No common name | Endangered | Yes | ——
Melicope degeneri | Alani | Endangered | Yes | ——
Melicope haupuensis | Alani | Endangered | Yes | E
Melicope knudsenii | Alani | Endangered | No | E
Melicope pallida | Alani | Endangered | No | E
Melicope paniculata | Alani | Endangered | Yes | ——
Melicope puberula | Alani | Endangered | Yes | ——
Melicope quadrangularis | Alani | Endangered | Yes | E
Mezoneuron kavaiense | Uhiuhi | Endangered | No | L
Myrsine fosbergii | Kolea | Endangered | No | ——
Myrsine knudsenii | Kolea | Endangered | Yes | ——
Myrsine linearifolia | Kolea | Threatened | Yes | F
Myrsine mezii | Kolea | Endangered | Yes | ——
Nothocestrum latifolium | Aiea | Endangered | No | ——
Nothocestrum peltatum | Aiea | Endangered | Yes | E
Panicum niihauense | Lauehu | Endangered | No | A
Peucedanum sandwicense | Makou | Threatened | No | E
Phyllostegia knudsenii | No common name | Endangered | Yes | F
Phyllostegia renovans | No common name | Endangered | Yes | ——
Phyllostegia waimeae | No common name | Endangered | Yes | E
Phyllostegia wawrana | No common name | Endangered | Yes | F
Pittosporum napaliense | Hoawa | Endangered | Yes | ——
Plantago princeps | Kuahiwi laukahi | Endangered | No | A
Platanthera holochila | No common name | Endangered | No | A
Platydesma rostrata | Pilokea laulii | Endangered | Yes | ——
Poa mannii | Mann's bluegrass | Endangered | Yes | E
Poa sandvicensis | Hawaiian bluegrass | Endangered | Yes | E
Poa siphonoglossa | No common name | Endangered | Yes | E
Polyscias bisattenuata [=Tetraplasandra bisattenuata] | No common name | Endangered | Yes | ——
Polyscias flynnii [=Tetraplasandra flynnii] | No common name | Endangered | Yes | ——
Polyscias racemosa [=Munroidendron racemosum] | No common name | Endangered | Yes | E
Pritchardia hardyi | Loulu | Endangered | Yes | ——
Pritchardia napaliensis | Loulu | Endangered | Yes | F
Pritchardia viscosa | Loulu | Endangered | Yes | F
Psychotria grandiflora | Kopiko | Endangered | Yes | ——
Psychotria hobdyi | Kopiko | Endangered | Yes | ——
Pteralyxia kauaiensis | Kaulu | Endangered | Yes | E
Ranunculus mauiensis | Makou | Endangered | No | ——
Remya kauaiensis | No common name | Endangered | Yes | E
Remya montgomeryi | No common name | Endangered | Yes | E
Scaevola coriacea | Naupaka, dwarf | Endangered | No | D
Schenkia sebaeoides | Awiwi | Endangered | No | A
Schiedea apokremnos | Maolioli | Endangered | Yes | E
Schiedea attenuata | No common name | Endangered | Yes | ——
Schiedea helleri | No common name | Endangered | Yes | F
Schiedea kauaiensis | No common name | Endangered | Yes | F
Schiedea lychnoides [=Alsinidendron lychnoides] | Kuawawaenohu | Endangered | Yes | F
Schiedea membranacea | No common name | Endangered | Yes | F
Schiedea nuttalii | No common name | Endangered | No | A
Schiedea spergulina var. leiopoda | No common name | Endangered | Yes | E
Schiedea spergulina var. spergulina | No common name | Threatened | Yes | E
Schiedea stellarioides | Laulihilihi | Endangered | Yes | F
Schiedea viscosa [=Alsinidendron viscosum] | No common name | Endangered | Yes | F
Sesbania tomentosa | Ohai | Endangered | No | A
Silene lanceolata | No common name | Endangered | No | M
Solanum incompletum | Popolo ku mai | Endangered | No | A
Solanum nelsonii | Popolo | Endangered | No | ——
Solanum sandwicense | Popolo aiakeakua | Endangered | No | E
Spermolepis hawaiiensis | No common name | Endangered | No | A
Stenogyne campanulata | No common name | Endangered | Yes | E
Stenogyne kealiae | No common name | Endangered | Yes | ——
Viola helenae | No common name | Endangered | Yes | G
Viola kauaiensis var. wahiawaensis | Nani waialeale | Endangered | Yes | F
Wilkesia hobdyi | Dwarf iliau | Endangered | Yes | E
Xylosma crenatum | No common name | Endangered | Yes | E
Zanthoxylum hawaiiense | Ae | Endangered | No | K
INVERTEBRATES
Manduca blackburni | Blackburn's sphinx moth | Endangered | No | N
Drosophila musaphilia | Hawaiian picture-wing fly | Endangered | Yes | ——
Drosophila sharpi | Hawaiian picture-wing fly | Endangered | Yes | ——
Spelaeorchestia koloana | Kauai cave amphipod | Endangered | Yes | O
Adelocosa anops | Kauai cave wolf spider | Endangered | Yes | O
Erinna newcombi | Newcomb's snail | Threatened | Yes | P
Megalagrion xanthomelas | Orangeblack Hawaiian damselfly | Endangered | No | ——
Megalagrion pacificum | Pacific Hawaiian damselfly | Endangered | No | ——
VERTEBRATES
Himantopus mexicanus knudseni | Hawaiian stilt | Endangered | No | Q
Oceanodroma castro | Akeake, Band-rumped storm-petrel (Hawaii Distinct Population Segment) | Endangered | No | ——
Loxops caeruleirostris | Akekee (honeycreeper) | Endangered | Yes | ——
Oreomystis bairdi | Akikiki (honeycreeper) | Endangered | Yes | R*
Fulica alai | Alae keokeo, Hawaiian coot | Endangered | No | Q
Gallinula galeata sandvicensis | Alae ula, Hawaiian common gallinule | Endangered | No | Q
Puffinus newelli | Ao, Newell's shearwater | Endangered | No | S
Chelonia mydas | Green turtle | Threatened | No | T
Myadestes myadestinus | Kamao, large Kauai thrush | Endangered | Yes | R
Akialoa stejnegeri | Kauai akialoa | Endangered | Yes | R
Hemignathus hanapepe | Kauai nukupuu | Endangered | Yes | R
Anas wyvilliana | Koloa maoli, Hawaiian duck | Endangered | No | Q
Anas laysanensis | Laysan duck | Endangered | No | U
Branta sandvicensis | Nene, Hawaiian goose | Endangered | No | V
Moho braccatus | Oo aa, Kauai oo | Endangered | Yes | R
Lasiurus cinereus semotus | Opeapea, Hawaiian hoary bat | Endangered | No | W
Psittirostra psittacea | Ou | Endangered | No | R
Myadestes palmeri | Small Kauai thrush | Endangered | Yes | R
Pterodroma sandwichensis | Hawaiian petrel | Endangered | No | S
A: Recovery Plan for the Multi-Island Plants (FWS 1999)
B: Addendum to the Recovery Plan for the Multi-Island Plants (FWS 2002)
C: Final Recovery Plan for Four Species of Hawaiian Ferns (FWS 1998a)
D: Recovery Plan for the Maui Plant Cluster (FWS 1997)
E: Recovery Plan for the Kauai Plant Cluster (FWS 1995)
F: Kauai II: Addendum to the Recovery Plan for the Kauai Plant Cluster (FWS 1998b)
G: Recovery Plan for the Wahiawa Plant Cluster (FWS 1994)
H: Recovery Plan for the Oahu Plants (FWS 1998c)
I: Draft Recovery Plan for Haplostachys haplostachya and Stenogyne angustifolia (FWS 1993)
J: Recovery Plan for Hibiscadelphus distans (FWS 1996a)
K: Recovery Plan for the Big Island Plant Cluster (FWS 1996b)
L: Recovery Plan for Caesalpinia kavaiensis and Kokia drynarioides (FWS 1994)
M: Recovery plan for the Molokai Plant Cluster (FWS 1996c)
N: Recovery Plan for Blackburn's Sphinx Moth (FWS 2005)
O: Final Recovery Plan for the Kauai Cave Arthropods (FWS 2006a)
P: Final Recovery Plan for Newcomb's Snail (FWS 2006b)
Q: Recovery Plan for Hawaiian Waterbirds, Second Revision (FWS 2011)
R: Revised Recovery Plan for Hawaiian Forest Birds (FWS 2006c)
S: Hawaiian Dark-rumped Petrel and Newell's Manx Shearwater Recovery Plan (FWS 1983)
T: Recovery Plan for U.S. Pacific Populations of the Green Turtle (NMFS and FWS 1998)
U: Revised Recovery Plan for the Laysan Duck (FWS 2009)
V: Draft Revised Recovery Plan for the Nene or Hawaiian Goose (FWS 2004)
W: Recovery Plan for the Hawaiian Hoary Bat (FWS 1998d)
*: Addressed only as candidate species.

Major threats to the various Kauai species addressed in this draft recovery plan include habitat degradation, predation and herbivory by nonnative mammals and invertebrates, disease spread by nonnative species, and competition with invasive nonnative plant species.

Recovery Plan Goals

The objective of a recovery plan is to provide a framework for the recovery of a listed species so that protection under the Act is no longer necessary. A recovery plan includes scientific information about the species and provides criteria and actions necessary for us to be able to reclassify the species or remove it from the Federal List of Endangered and Threatened Wildlife and Plants. Recovery plans help guide our recovery efforts by describing actions we consider necessary for the species' conservation, and by estimating time and costs for implementing needed recovery measures.

The draft recovery plan recommends a combination of islandwide recovery actions (e.g., biosecurity), management of ecosystem-level threats within specific geographic management units, and species-specific recovery actions such as propagation and reintroduction.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions.

We request written comments on the draft recovery plan. Before we approve the plan, we will consider all comments we receive by the date specified in DATES. Methods of submitting comments are described in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Mary Abrams,
Acting Regional Director, U.S. Fish and Wildlife Service.

[FR Doc. 2020-09177 Filed 4-29-20; 8:45 am]

BILLING CODE 4333-15-P